DEPARTMENT OF HEALTH AND HUMAN SERVICES

Health Resources and Services Administration

Privacy Act of 1974; Deletion of an Existing System of Records

AGENCY: Department of Health and Human Services (HHS), Health Resources and Services Administration (HRSA).

ACTION: Notice to delete an existing system of records (SOR).

SUMMARY: In accordance with the requirements of the Privacy Act of 1974, HRSA is deleting an existing system of records titled the “Minority/Disadvantaged Health Professions Programs” HRSA System No. 09-15-0060, established at 63 Federal Register 14121 (March 24, 1998).

DATES: To be considered, written comments must be submitted on or before December 14, 2009. If no comments are received, the deletion of this SOR will be effective on December 14, 2009.

ADDRESSES: The public should address comments to: Office of Workforce Policy and Performance Management, Bureau of Health Professions, HRSA, Room 9A18 Parklawn Building, 5600 Fishers Lane, Rockville, MD 20857, 301-443-0367. Comments received will be available for review at this location, by appointment, during regular business hours, Monday through Friday from 9 a.m.-3 p.m., Eastern Time zone.

SUPPLEMENTARY INFORMATION: Minority/Disadvantaged Health Professions Program no longer collects, maintains, processes or retrieves data regarding individuals in this program area. However, outstanding documents are archived. Therefore, HRSA proposes to delete this SOR 09-15-0060.

Dated: October 14, 2009.
Mary K. Brand,
Deputy Administrator.

[FR Doc. E9-26528 Filed 11-3-09; 8:45 am]

BILLING CODE 4160-15-P